DEPARTMENT OF HEALTH AND HUMAN SERVICES

National Institutes of Health

Center for Scientific Review Amended; Notice of Meeting

Notice is hereby given of a change in the meeting of the Neurogenesis and Cell Fate Study Section, October 09, 2013, 08:00 a.m. to October 09, 2013, 06:00 p.m., Residence Inn Arlington Capital View, 2850 South Potomac Avenue, Arlington, VA 22202, which was published in the Federal Register on September 17, 2013, 78 FR 57169.

The meeting will be held at the National Institutes of Health, 6701 Rockledge Drive, Bethesda, MD 20892. The meeting will start on November 18, 2013 at 10:00 a.m. and end on November 19, 2013 at 12:30 p.m. The meeting is closed to the public.

Dated: October 29, 2013.
Melanie J. Gray,
Program Analyst, Office of Federal Advisory Committee Policy.

[FR Doc. 2013-26193 Filed 11-1-13; 8:45 am]

BILLING CODE 4140-01-P